DEPARTMENT OF TRANSPORTATION

Federal Aviation Administration

14 CFR Part 97

[Docket No. 30456 ; Amdt. No. 3133 ]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective September 16, 2005. The compliance date for each SIAP and/or Weather Takeoff Minimums is specified in the amendatory provisions.

The incorporation by reference of certain publications listed in the regulations is approved by the Director of the Federal Register as of September 16, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97:

Air Traffic Control, Airports, Incorporation by reference, and Navigation (Air).

Issued in Washington, DC on September 9, 2005.
James J. Ballough,
Director, Flight Standards Service.

Adoption of The Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 27 October 2005

Cordova, AK, Merle K (Mudhole) Smith, NDB/DME-A, Amdt 1

Kaltag, AK, Kaltag, RNAV (GPS) RWY 3, Orig

Koyuk, AK, Koyuk Alfred Adams, RNAV (GPS) RWY 1, Orig

Koyuk, AK, Koyuk Alfred Adams, NDB RWY 1, Amdt 1

Koyuk, AK, Koyuk Alfred Adams, NDB/DME RWY 1, Amdt 1

Heber Springs, AR, Heber Springs Muni, RNAV (GPS) RWY 5, Orig

Heber Springs, AR, Heber Springs Muni, RNAV (GPS) RWY 23, Orig

Heber Springs, AR, Heber Springs Muni, NDB or GPS RWY 5, Orig, CANCELLED

San Francisco, CA, San Francisco International, ILS OR LOC RWY 28R; ILS RWY 28R (CAT II); ILS RWY 28R (CAT III), Amdt 11

San Francisco, CA, San Francisco International, RNAV (GPS) Z RWY 28R, Amdt 2

Groton (New London), CT, Groton-New London, VOR RWY 5, Amdt 8

Groton (New London), CT, Groton-New London, VOR RWY 23, Amdt 10

Groton (New London), CT, Groton-New London, ILS OR LOC RWY 5, Amdt 11

Groton (New London), CT, Groton-New London, RNAV (GPS) RWY 5, Orig

Groton (New London), CT, Groton-New London, RNAV (GPS) RWY 23, Orig

Groton (New London), CT, Groton-New London, RNAV (GPS) RWY 33, Orig

Groton (New London), CT, Groton-New London, GPS RWY 33, Amdt 1A, CANCELLED

Groton (New London), CT, Groton-New London, Takeoff Minimums and Textual DP, Amdt 7

Kaunakakai, HI, Molokai, Takeoff Minimums and Textual DP, Amdt 5

Hailey, ID, Friedman Memorial, RNAV (GPS) W RWY 31, Amdt 1

Hailey, ID, Friedman Memorial, RNAV (RNP) Y RWY 31, Orig

Cahokia, IL, St. Louis Downtown, RNAV (GPS) RWY 12R, Orig

Chicago, IL, Chicago O’Hare Intl, ILS OR LOC RWY 27R, Amdt 26, ILS RWY 27R (CAT II), ILS RWY 27R (CAT III)

Chicago, IL, Chicago O’Hare Intl, ILS OR LOC RWY 27L, Amdt 13, ILS RWY 27L (CAT II), ILS RWY 27L (CAT III)

Chicago, IL, Chicago O’Hare Intl, NDB RWY 27R, Amdt 23, CANCELLED

Peoria, IL, Greater Peoria Regional, RNAV (GPS) RWY 4, Amdt 1

Peoria, IL, Greater Peoria Regional, RNAV (GPS) RWY 13, Amdt 1

Peoria, IL, Greater Peoria Regional, RNAV (GPS) RWY 22, Amdt 1

Peoria, IL, Greater Peoria Regional, RNAV (GPS) RWY 31, Amdt 1

Peoria, IL, Greater Peoria Regional, ILS OR LOC RWY 4, Amdt 1

Peoria, IL, Greater Peoria Regional, ILS OR LOC RWY 31, Amdt 7

Peoria, IL, Greater Peoria Regional, VOR/DME OR TACAN RWY 31, Amdt 9

Sparta, IL, Sparta Community-Hunter Field, RNAV (GPS) RWY 36, Orig

Fort Leavenworth, KS, Sherman AAF, Takeoff Minimums and Textual DP, Orig

Newton, KS, Newton-City-County, RNAV (GPS) RWY 17, Orig

Newton, KS, Newton-City-County, RNAV (GPS) RWY 35, Orig

Newton, KS, Newton-City-County, ILS OR LOC RWY 17, Amdt 4

Newton, KS, Newton-City-County, GPS RWY 17, Orig, CANCELLED

Newton, KS, Newton-City-County, GPS RWY 35, Orig, CANCELLED

Newton, KS, Newton-City-County, VOR/DME RNAV RWY 17, Amdt 2, CANCELLED

Newton, KS, Newton-City-County, VOR/DME RNAV RWY 35, Amdt 2, CANCELLED

Newton, KS, Newton-City-County, VOR/DME-A, Amdt 3

Olathe, KS, Johnson County Executive, Takeoff Minimums and Textual DP, Orig

Olathe, KS, New Century Aircenter, Takeoff Minimums and Textual DP, Orig

Tallulah, LA, Vicksburg Tallulah Rgnl, LOC RWY 36, Amdt 2

Fort Meade (Odenton), MD, Tipton, VOR-A, Amdt 1

Fort Meade (Odenton), MD, Tipton, NDB RWY 10, Amdt 1

Fort Meade (Odenton), MD, Tipton, RNAV (GPS) RWY 10, Amdt 1

Gaithersburg, MD, Montgomery County Airpark, RNAV (GPS) RWY 14, Amdt 3

Hibbing, MN, Chisholm-Hibbing, ILS OR LOC/DME RWY 13, Amdt 1

Hibbing, MN, Chisholm-Hibbing, ILS OR LOC RWY 31, Amdt 13

Minneapolis, MN, Anoka County-Blaine Aprt (Janes Field), Takeoff Minimums and Textual DP, Amdt 3

Minneapolis, MN, Flying Cloud, Takeoff Minimums and Textual DP, Amdt 3

Minneapolis, MN, Minneapolis-St. Paul Intl/Wold-Chamberlain, RNAV (GPS) RWY 35, Orig

Minneapolis, MN, Minneapolis-St. Paul Intl/Wold-Chamberlain, ILS OR LOC RWY 35, ILS RWY 35 (CAT II), ILS RWY 35 (CAT III), Orig

Minneapolis, MN, Minneapolis-St. Paul Intl/Wold-Chamberlain, CONVERGING ILS RWY 35, Orig

Minneapolis, MN, Minneapolis-St. Paul Intl/Wold-Chamberlain, CONVERGING ILS RWY 30L, Orig

Minneapolis, MN, Minneapolis-St. Paul Intl/Wold-Chamberlain, CONVERGING ILS RWY 30R, Orig

Minneapolis, MN, Minneapolis-St. Paul Intl/Wold-Chamberlain, LOC RWY 17, Orig

Minneapolis, MN, Minneapolis-St. Paul Intl/Wold-Chamberlain, Takeoff Minimums and Textual DP, Amdt 10

St. Paul, MN, St. Paul Downtown Holman Field, Takeoff Minimums and Textual DP, Amdt 6

Kansas City, MO, Charles B. Wheeler Downtown, Takeoff Minimums and Textual DP, Amdt 2

Kansas City, MO, Kansas City Intl, Takeoff Minimums and Textual DP, Orig

St. Charles, MO, St. Charles County Smartt, RNAV (GPS) RWY 18, Orig

St. Charles, MO, St. Charles County Smartt, VOR RWY 18, Amdt 1

St. Charles, MO, St. Charles County Smartt, GPS RWY 18, Orig, CANCELLED

St. Charles, MO, St. Charles County Smartt, Takeoff Minimums and Textual DP, Amdt 2

St. Joseph, MO, Rosecrans Memorial, Takeoff Minimums and Textual DP, Amdt 6

St. Louis, MO, Lambert-St. Louis Intl, LDA PRM RWY 30L, Orig (Simultaneous Close Parallel)

St. Louis, MO, Lambert-St. Louis Intl, LDA/DME RWY 30L, Orig

St. Louis, MO, Lambert-St. Louis Intl, ILS PRM RWY 30R, Orig (Simultaneous Close Parallel)

St. Louis, MO, Lambert-St. Louis Intl, ILS OR LOC RWY 30R, ILS RWY 30R (CAT II), ILS RWY 30R (CAT III), Amdt 8

St. Louis, MO, Lambert-St. Louis Intl, LDA/DME RWY 30L, Amdt 2C, CANCELLED

St. Louis, MO, Lambert-St. Louis Intl, Takeoff Minimums and Textual DP, Orig

St. Louis, MO, Spirit of St. Louis, Takeoff Minimums and Textual DP, Orig

Ruidoso, NM, Sierra Blanca Regional, ILS OR LOC/DME RWY 24, Orig

Ruidoso, NM, Sierra Blanca Regional, LOC/DME RWY 24, Orig-B, CANCELLED

Batavia, NY, Genesee County, ILS OR LOC RWY 28, Amdt 5

Buffalo, NY, Buffalo Niagara Intl, NDB RWY 23, Orig

Goldsboro, NC, Goldsboro-Wayne Muni, NDB RWY 23, Amdt 1, CANCELLED

Statesville, NC, Statesville Regional, GPS RWY 10, Amdt 1, CANCELLED

Statesville, NC, Statesville Regional, RNAV (GPS) RWY 10, Orig

Statesville, NC, Statesville Regional, VOR/DME RWY 10, Amdt 8

Statesville, NC, Statesville Regional, Takeoff Minimums and Textual Departures, Orig

Ardmore, OK, Ardmore Downtown Executive, NDB RWY 35, Amdt 5, CANCELLED

Eugene, OR, Mahlon Sweet Field, LOC/DME RWY 16L, Orig

Philadelphia, PA, Philadelphia Intl, RNAV (GPS) RWY 9L, Amdt 1

Philadelphia, PA, Philadelphia Intl, RNAV (GPS) RWY 9R, Amdt 2

Philadelphia, PA, Philadelphia Intl, RNAV (GPS) Y RWY 9L, Orig, CANCELLED

Philadelphia, PA, Philadelphia Intl, RNAV (GPS) Y RWY 9R, Amdt 1, CANCELLED

Philadelphia, PA, Philadelphia Intl, RNAV (GPS) RWY 17, Amdt 1

Philadelphia, PA, Philadelphia Intl, RNAV (GPS) Y RWY 17, Orig, CANCELLED

Philadelphia, PA, Philadelphia Intl, RNAV (GPS) RWY 27L, Amdt 1

Philadelphia, PA, Philadelphia Intl, RNAV (GPS) RWY 27R, Amdt 1

Orangeburg, SC, Orangeburg Muni, RNAV (GPS) RWY 5, Orig

Orangeburg, SC, Orangeburg Muni, RNAV (GPS) RWY 17, Orig

Orangeburg, SC, Orangeburg Muni, RNAV (GPS) RWY 23, Orig

Orangeburg, SC, Orangeburg Muni, RNAV (GPS) RWY 35, Orig

Orangeburg, SC, Orangeburg Muni, NDB RWY 5, Amdt 1

Orangeburg, SC, Orangeburg Muni, VOR RWY 5, Amdt 4C, CANCELLED

Houston, TX, William P. Hobby, ILS OR LOC RWY 4, ILS RWY 4 (CAT II), ILS RWY 4 (CAT III), Amdt 40

The FAA published an Amendment in Docket No. 30452; Amdt No. 3128 to Part 97 of the Federal Aviation Regulations (Vol. 70, FR No. 155, page 47092, dated August 12, 2005) Under section 97.27 effective for 1 Sep 2005 which is hereby rescinding the Cancellation in its entirety:

Boise, ID, Boise Air Terminal (Gowen Field), NDB RWY 10R, Amdt 27A, CANCELLED

[FR Doc. 05-18376 Filed 9-15-05; 8:45 am]

BILLING CODE 4910-13-P